DEPARTMENT OF AGRICULTURE

Notice of Request for Emergency Approval of New Information Collection, Paper Reduction Act of 1995; Correction

AGENCY: Office of the Assistant Secretary for Civil Rights.

ACTION: Technical amendments to Notice.

SUMMARY: This document makes technical amendments to the Office of the Assistant Secretary for Civil Rights' notice seeking public comment on information collection activities under its USDA/1890 Programs.

DATES: Effective Date: September 25, 2008.

FOR FURTHER INFORMATION: Contact Carl Butler, USDA/1890 National Scholars Program Manager, U.S. Department of Agriculture, 1400 Independence Ave., SW., Room 3038, Mail Stop 9478, Washington, DC 20250 (202) 205-2641 (Fax number).

SUPPLEMENTARY INFORMATION: The Office of the Assistant Secretary for Civil Rights has reviewed its notice (73 FR 49642, August 22, 2008) seeking an extension of and public comment on information collection activities under its USDA/1890 Programs and makes clarifying technical amendments. The notice contained an error in the subject line, summary, and type of request. It also omitted the Office of Management and Budget (OMB) control number and comment closing date.

Technical Amendments

On page 49642, in the first column, the subject for the notice is revised to read as follows: “Extension of Approved Information Collection, OMB Control Number 0503-0015”.

On page 49642, in the first column, the summary is revised to read as follows: “In accordance with the Paperwork Reduction Act of 1995 (44 U.S.C. Chapter 35), the Office of the Assistant Secretary for Civil Rights is requesting OMB to extend an existing approval to collect information for the USDA/1890 National Scholars Program.”

On page 49642, in the first column, in the “DATES” section, the comment period is inserted to read as follows: “Comments on this notice must be received by October 21, 2008, to be assured of consideration.”

On page 49642, in the first column, in the “SUPPLEMENTARY INFORMATION” section, the type of request is revised to read as follows: “Extension of an approved information collection”.

On page 49642, in the first column, in the “SUPPLEMENTARY INFORMATION” section, the OMB control number is inserted beneath the type of request to read as follows: “OMB Number: 0503-0015”.

Arthur L. Neal,
Acting Director, USDA/1890 Program.

[FR Doc. E8-22573 Filed 9-24-08; 8:45 am]

BILLING CODE 3410-11-P